DEPARTMENT OF THE INTERIOR

National Park Service

[NPS-WASO-NRNHL-23882; PPWOCRADI0, PCU00RP14.R50000]

National Register of Historic Places; Notification of Pending Nominations and Related Actions

AGENCY: National Park Service, Interior.

ACTION: Notice.

SUMMARY: The National Park Service is soliciting comments on the significance of properties nominated before July 22, 2017, for listing or related actions in the National Register of Historic Places.

DATES: Comments should be submitted by August 31, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before July 22, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

Pemberton, Sarah H., 1121 N. 2nd St., Phoenix, SG100001557

DISTRICT OF COLUMBIA

District of Columbia

Emerald Street Historic District, 1307-1377, 1306-1368 Emerald St. NE., 517-519 13t St. NE., 518-520 14th St. NE., Washington, SG100001560

ILLINOIS

Cook County

Covent Hotel, (Residential Hotels in Chicago, 1880-1930 MPS), 2653-65 N. Clark St., Chicago, MP100001561

Motley, John Lothrop, School, 739 N. Ada St., Chicago, SG100001562

Shoreline Apartments, 22321 E. 67th St., Chicago, SG100001563

Madison County

Granite City YMCA, 2001 Edison Ave., Granite City, SG100001564

Ogle County

Aplington, Zenas, House, 123 N. Franklin Ave., Polo, SG100001565

Piatt County

Bryant, Francis E., House, 146 E. Wilson St., Bement, SG100001566

IOWA

Floyd County

Charles City Junior—Senior High School, 500 N. Grand Ave., Charles City, SG100001567

Warren County

Indianola Carnegie Library, 106 W. Boston Ave., Indianola, SG100001568

MONTANA

Broadwater County

Stone Hill Springs Prehistoric District, Address Restricted, Townsend vicinity, SG100001569

PENNSYLVANIA

Centre County

Beck, William Henry and Clara Singer, Farm, 950 Snydertown Rd., Howard, SG100001570

Lancaster County

Mayer, David M., House, 1580 Fruitville Pike, Lancaster, SG100001571

Philadelphia County

Penn Wynn House, 2201 Bryn Mawr Ave., Philadelphia, SG100001572

WISCONSIN

Milwaukee County

Blommer Ice Cream Company, 1502 W. North Ave., Milwaukee, SG100001574

WYOMING

Laramie County

Mt. Sinai Synagogue, 2610 Power Ave., Cheyenne, SG100001575

A request for removal has been made for the following resource(s):

WYOMING

Platte County

Wheatland Railroad Depot, 701 Gilchrist Ave., Wheatland, OT96000077

Nominations submitted by Federal Preservation Officers:

The State Historic Preservation Officer reviewed the following nominations and responded to the Federal Preservation Officer within 45 days of receipt of the nominations and supports listing the properties in the National Register of Historic Places.

CALIFORNIA

Mariposa County

Degnan's Restaurant, (National Park Service Mission 66 Era Resources MPS), 9001 Village Dr., Yosemite NP, MP100001558

Siskiyou County

Schonchin Butte Fire Lookout, (Historic Park Landscapes in National and State Parks MPS), Lava Beds NM, Tulelake vicinity, MP100001559

UTAH

Utah County

U.S. Post Office, (US Post Offices in Utah MPS), 88 West 100 North St., Provo, MP100001573

Authority: 36 CFR 60.13.

Dated: July 26, 2017.
Julie H. Ernstein,
Acting Chief, National Register of Historic Places/National Historic Landmarks Program.

[FR Doc. 2017-17260 Filed 8-15-17; 8:45 am]

BILLING CODE 4312-52-P